DEPARTMENT OF VETERANS AFFAIRS

Veterans Health Administration; Funding Availability Under Supportive Services for Veteran Families Program

AGENCY: Department of Veterans Affairs.

ACTION: Notice; correction.

SUMMARY: The Department of Veterans Affairs (VA) published a Notice of Funding Availability in the Federal Register on January 14, 2014, that contained an error. Specifically, the table on page 2539 mistakenly listed one of the priority 1 Continuums of Care (CoCs) as “GA-500 Atlanta/Roswell/DeKalb/Fulton.” GA-500 has split into three CoCs: GA-500—Atlanta, GA-502—Fulton County, and GA-508—DeKalb County.

This document corrects the error by replacing, on line 12 of the table, “GA-500” with “GA-500”, “GA-502”, and GA-508” in the first column; replacing “Atlanta/Roswell/DeKalb, Fulton Counties CoC” with “Atlanta CoC”, “FultonCounty/Roswell CoC”, and “DeKalb County CoC” in the second column; and replacing “6,000,000” with “3,000,000”, “1,500,000”, and “1,500,000”.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

Dated: January 29, 2014.
William F. Russo,
Deputy Director, Office of Regulation and Policy, Office of the General Counsel, Department of Veterans Affairs.

[FR Doc. 2014-02147 Filed 1-31-14; 8:45 am]

BILLING CODE 8320-01-P